DEPARTMENT OF COMMERCE

International Trade Administration

[C-489-834]

Large Diameter Welded Pipe From the Republic of Türkiye: Final Results of the Expedited First Sunset Review of the Countervailing Duty Order

AGENCY: Enforcement and Compliance, International Trade Administration, Department of Commerce.

SUMMARY: The U.S. Department of Commerce (Commerce) finds that revocation of the countervailing duty (CVD) order on large diameter welded pipe (welded pipe) from the Republic of Türkiye (Türkiye) would be likely to lead to continuation or recurrence of countervailable subsidies at the levels as indicated in the “Final Results of Sunset Review” section of this notice.

DATES: Applicable June 7, 2024.

FOR FURTHER INFORMATION CONTACT: Whitley Herndon, AD/CVD Operations, Office IX, Enforcement and Compliance, International Trade Administration, U.S. Department of Commerce, 1401 Constitution Avenue NW, Washington, DC 20230; telephone: (202) 482-6274.

SUPPLEMENTARY INFORMATION:

Background

On May 2, 2019, Commerce published the Order on welded pipe from Türkiye in the Federal Register.¹ On February 1, 2024, Commerce published the notice of initiation of the first five-year (sunset) review of the Order, pursuant to section 751(c) of the Tariff Act of 1930, as amended (the Act).² On February 16, 2024, Commerce received a timely notice of intent to participate from the American Line Pipe Producers Association Trade Committee (ALPPA), the domestic interested party, within the 15-day deadline specified in 19 CFR 351.218(d)(1)(i).³ ALPPA claimed interested party status under section 771(9)(F) of the Act as an association, a majority of whose members is composed of interested parties (i.e., manufacturers or producers of the domestic like product).⁴

¹ See Large Diameter Welded Pipe From the Republic of Turkey: Amended Final Affirmative Antidumping Duty Determination and Antidumping Duty Order, 84 FR 18799 (May 2, 2019) (Order).

² See Initiation of Five-Year (Sunset) Reviews, 89 FR 6499 (February 1, 2024) (Initiation Notice).

³ See ALPPA's Letter, “Notice of Intent to Participate in Sunset Review,” dated February 16, 2024.

⁴ Id.

On March 4, 2024, Commerce received an adequate substantive response to the Initiation Notice from the domestic interested party within the 30-day deadline specified in 19 CFR 351.218(d)(3)(i).⁵ Commerce did not receive a response from the Government of Türkiye (GOT) or from any other interested party. In accordance with section 751(c)(3)(B) of the Act, because Commerce did not receive a substantive response from the GOT or a respondent party, pursuant to 19 CFR 351.218(e)(1)(ii)(B) and (e)(1)(ii)(C), respectively, we determined that the respondent interested parties did not provide an adequate response to the Initiation Notice. Therefore, on March 22, 2024, Commerce notified the U.S. International Trade Commission that it did not receive an adequate substantive response from respondent interested parties, and that it would conduct an expedited (120-day) sunset review of the Order.⁶

⁵ See ALPPA's Letter, “Substantive Response to Notice of Initiation,” dated March 4, 2024.

⁶ See Commerce's Letter, “Sunset Reviews for February 2024” dated March 22, 2024.

Scope of the Order

The product covered by the Order is welded pipe from Türkiye. For a complete description of the scope of the Order, see the Issues and Decision Memorandum.⁷

⁷ See Memorandum, “Decision Memorandum for Final Results of the Expedited First Sunset Review of the Countervailing Duty Order on Large Diameter Welded Pipes from the Republic of Türkiye,” dated May 31, 2024 (Issues and Decision Memorandum).

Analysis of Comments Received

A complete discussion of all issues raised in this sunset review, including the likelihood of continuation or recurrence of subsidization in the event of revocation of the Order and the countervailable subsidy rates likely to prevail if the Order were to be revoked, is provided in the accompanying Issues and Decision Memorandum. A list of the topics discussed in the Issues and Decision Memorandum is attached as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Final Results of Sunset Review

Pursuant to sections 751(c)(1) and 752(b) of the Act, Commerce determines that revocation of the Order would be likely to lead to continuation or recurrence of countervailable subsidies at the following net countervailing subsidy rates:

Manufacturer/producer/exporter | Net countervailable subsidy (percent)
HDM Celik Boru Sanayi ve Ticaret A.S | 3.72
All Others | 3.72

Administrative Protective Order

This notice serves as the only reminder to parties subject to administrative protective order (APO) of their responsibility concerning the disposition of proprietary information disclosed under APO in accordance with 19 CFR 351.305, which continues to govern business proprietary information in this segment of the proceeding. Timely written notification of return/destruction of APO materials or conversion to judicial protective order is hereby requested. Failure to comply with the regulations and terms of an APO is a violation which is subject to sanction.

Notification to Interested Parties

Commerce is issuing and publishing these final results and notice in accordance with sections 751(c), 752(b), and 777(i)(1) of the Act.

Dated: May 31, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2024-12521 Filed 6-6-24; 8:45 am]

BILLING CODE 3510-DS-P